DEPARTMENT OF DEFENSE

Department of the Navy

Notice of Availability of Government-Owned Inventions; Available for Licensing

AGENCY: Department of the Navy, DOD.

ACTION: Notice.

SUMMARY: The inventions listed below are assigned to the United States Government as represented by the Secretary of the Navy and are available for licensing by the Department of the Navy. U.S. Patent Application Number 11/417,283 filed on June 1, 2006, Navy Case Number 83036 entitled “Imagery Analysis Tool”; U.S. Patent Application Number 10/956,522 filed on September 23, 2004, Navy Case Number 83683 entitled “Method for Comparing Tabular Data”; U.S. Patent Application Number 11/251,535 filed on September 29, 2005, Navy Case Number 85000 entitled “Just In Time Wiring Information System”; U.S. Patent Application Number 11/357,460 filed on February 14, 2006, Navy Case Number 96400 entitled “Apparatus and Method to Amalgamate Substances”; U.S. Patent Application Number 11/482,303 filed on July 11, 2006, Navy Case Number 97495 entitled “Hoisting Harness Assembly Tool”; U.S. Patent Application Number 11/998,863 filed on November 28, 2007, Navy Case Number 97722 entitled “Method and Apparatus for Non-Invasively Estimating Body Core Temperature”; U.S. Patent Application Number 11/481,227 filed on July 7, 2006, Navy Case Number 97763 entitled “Portable Medical Equipment Suite”; U.S. Patent Application Number 11/296,723 filed on December 6, 2006, Navy Case Number 97798 entitled “Global Visualization Process for Personal Computer Platforms (GVP+); U.S. Patent Application Number 11/789,118 filed on April 5, 2007, Navy Case Number 98491B entitled “Method of Producing and Controlling the Atomization of an Output Flow from a C-D Nozzle”; U.S. Patent Application Number 12/432,019 filed on April 28, 2009, Navy Case Number PAX06 entitled “Method for Producing Nanoparticles”; U.S. Patent Application Number 12/469,197 filed on May 20, 2009, Navy Case Number PAX14 entitled “Fast Rope”; U.S. Patent Number 5,520,331 entitled “Liquid Atomizing Nozzle” issued May 28, 1996; U.S. Patent Number 6,233,740 entitled “Aircrew Integrated Recovery Survival Vest” issued May 22, 2001; U.S. Patent Number 6,240,742 entitled “Modular Portable Air-Conditioning System” issued June 5, 2001; U.S. Patent Number 6,241,164 entitled “Effervescent Liquid Fine Mist Apparatus and Method” issued June 5, 2001; U.S. Patent Number 6,484,072 entitled “Embedded Terrain Awareness Warning System for Aircraft” issued November 19, 2002; U.S. Patent Number 6,598,802 entitled “Effervescent Liquid Fine Mist Apparatus and Method” issued July 29, 2003; U.S. Patent Number 6,659,963 entitled “Apparatus for Obtaining Temperature and Humidity Measurements” issued December 9, 2003; U.S. Patent Number 7,176,812 B1 entitled “Wireless Blade Monitoring System and Process” issued February 13, 2007; U.S. Patent Number 7,225,999 entitled “Spray Array Apparatus” issued June 5, 2007; U.S. Patent Number 7,331,183 B2 entitled “Personal Portable Environmental Control System” issued February 19, 2008; U.S. Patent Number 7,380,467 B2 entitled “Bond Integrity Tool” issued June 3, 2008; U.S. Patent Number 7,494,670 B2 entitled “Composition and Process for Removing and Preventing Mildew and Fungal Growth” issued February 24, 2009; U.S. Patent Number 7,523,876 entitled “Adjustable Liquid Atomization Nozzle” issued April 28, 2009.

ADDRESSES: Request for data and inventor interviews should be directed to Mr. Paul Fritz, Naval Air Warfare Center Aircraft Division, Business and Partnership Office, Office of Research and Technology Applications, Building 505, 22473 Millstone Road, Patuxent River, MD 20670, telephone 301-342-5586 or e-mail at: Paul.Fritz@navy.mil.

DATES: Request for data, samples, and inventor interviews should be made prior to September 1, 2009.

FOR FUTHER INFORMATION CONTACT: Mr. Paul Fritz, Office of Research and Technology Applications, Building 505, Naval Air Warfare Center Aircraft Division, 22473 Millstone Road, Patuxent River, MD 20670, telephone 301-342-5586 or e-mail at: Paul.Fritz@navy.mil.

SUPPLEMENTARY INFORMATION: The U.S. Navy intends to move expeditiously to license these inventions. All licensing application packages and commercialization plans must be returned to Naval Air Warfare Center Aircraft Division, Business and Partnership Office, Office of Research and Technology Applications, Building 505, 22473 Millstone Road, Patuxent River, MD 20670.

The Navy, in its decisions concerning the granting of licenses, will give special consideration to existing licensees, small business firms, and consortia involving small business firms. The Navy intends to ensure that its licensed inventions are broadly commercialized throughout the United States.

PCT application may be filed for each of the patents as noted above. The Navy intends that licensees interested in a license in territories outside of the United States will assume foreign prosecution and pay the cost of such prosecution.

Authority: 35 U.S.C. 207 and 37 CFR part 404.

Dated: June 2, 2009.
A.M. Vallandingham,
Lieutenant Commander, Judge Advocate General's Corps, U.S. Navy, Federal Register Liaison Officer.

[FR Doc. E9-13857 Filed 6-11-09; 8:45 am]

BILLING CODE 3810-FF-P